DEPARTMENT OF THE INTERIOR

National Park Service

[NPS-WASO-NAGPRA-10271; 2200-1100-665]

Notice of Intent To Repatriate Cultural Items: Tennessee Valley Authority and the University of Tennessee McClung Museum, Knoxville, TN

AGENCY: National Park Service, Interior.

ACTION: Notice.

SUMMARY: The Tennessee Valley Authority (TVA) and the University of Tennessee McClung Museum (McClung Museum), in consultation with the appropriate Indian tribes, have determined that the cultural items meet the definition of unassociated funerary objects and repatriation to the Indian tribe identified below may occur if no additional claimants come forward. Representatives of any Indian tribe that believes itself to be culturally affiliated with the cultural items may contact the TVA and McClung Museum.

DATES: Representatives of any Indian tribe that believes it has a cultural affiliation with the cultural items should contact the TVA and McClung Museum at the address below by July 5, 2012.

ADDRESSES: Dr. Thomas O. Maher, TVA, 400 West Summit Hill Drive, WT 11D, Knoxville, TN 37902-1401, telephone (865) 632-7458.

SUPPLEMENTARY INFORMATION: Notice is here given in accordance with the Native American Graves Protection and Repatriation Act (NAGPRA), 25 U.S.C. 3005, of the intent to repatriate cultural items under the control of the TVA and in the custody of the McClung Museum that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

On June 21, 1937 unassociated funerary objects were removed by archeologist from the University of Tennessee's Division of Anthropology on Hiwassee Island, site 40MG031, from burial unit 063MG001. No human remains were recovered from this burial unit. The unassociated funerary objects are 1 lot of approximately 150 glass trade beads, which were found in this badly disturbed burial unit. The TVA and the McClung Museum do not have control or possession of any human remains from this burial unit. Since excavation, the unassociated funerary objects have been curated at the McClung Museum at the University of Tennessee.

Hiwassee Island is located seven miles south of the town of Dayton, TN, and is approximately 29 miles upstream of the TVA's Chickamauga Dam. The archeologists were working under a “Permit for Archeological Exploration” between the landowner and the TVA, and the excavations were undertaken in connection with the TVA's construction of Chickamauga Dam and Reservoir. Details regarding the excavations and analysis can be found in Hiwassee Island: An Archaeological Account of Four Tennessee Indian Peoples, by Thomas M.N. Lewis and Madeline Kneberg, University of Tennessee Press, Knoxville, TN.

Determinations Made by the TVA and McClung Museum

Officials of the TVA and McClung Museum have determined that:

• Pursuant to 25 U.S.C. 3001(3)(B), the 1 lot of cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects above and the Muscogee (Creek) Nation of Oklahoma.

Additional Requestors and Disposition

Representatives of any other Indian tribe that believes itself to be culturally affiliated with the unassociated funerary objects should contact Dr. Thomas O. Maher, TVA, 400 West Summit Hill Drive, WT 11D, Knoxville, TN 37902-1401, telephone (865-632-7458), before July 5, 2012. Repatriation of the unassociated funerary objects to the Muscogee (Creek) Nation of Oklahoma may proceed after that date if no additional claimants come forward.

The TVA is responsible for notifying the Muscogee (Creek) Nation of Oklahoma that this notice has been published.

Dated: May 30, 2012.
Sherry Hutt,
Manager, National NAGPRA Program.

[FR Doc. 2012-13453 Filed 6-1-12; 8:45 am]

BILLING CODE 4312-50-P